DEPARTMENT OF THE INTERIOR

Fish and Wildlife Service

Receipt of Application for an Incidental Take Permit by the Alabama Department of Conservation and Natural Resources for Proposed Improvements to Gulf State Park Hotel/Convention Center & Pavilion, Gulf Shores, Baldwin County, AL

AGENCY: Fish and Wildlife Service, Interior.

ACTION: Notice of availability of application for an incidental take permit, habitat conservation plan and environmental assessment.

SUMMARY: The Alabama Department of Conservation and Natural Resources (Applicant) has applied to the Fish and Wildlife Service (Service) for an incidental take permit [ITP] under section 10(a)(1)(B) of the Endangered Species Act of 1973 (16 United States Code [U.S.C.] 1531 et seq.), as amended (Act) for the take of Alabama beach mouse (Peromyscus polionotus ammobates) (ABM). The proposed take would be incidental to otherwise lawful activities, including the demolition of the current facility, site grading, and construction and development of a new facility. The proposed facility would consist of a seven-story hotel with a total of 350 guest rooms, a beach inn with 100 guest rooms, four beach side cottages with a total of 16 rooms, a new beach pavilion, and other amenities. The proposed project would result in a net gain of 3.16 acres of ABM habitat. The proposed action would involve approval of the Habitat Conservation Plan (HCP) developed by the applicant, as required by section 10(a)(2)(B) of the Act, to minimize and mitigate for incidental take of the federally listed endangered Alabama beach mouse (Peromyscus polionotus ammobates) (ABM), the threatened green sea turtle (Chelonia mydas), the threatened loggerhead turtle, (Caretta caretta), and the endangered Kemp's ridley sea turtle (Lepidochelys kempii). A detailed description of the mitigation and minimization measures to address the effects of the project on the ABM and sea turtles is provided in the applicant's HCP, the Service's Environmental Assessment and in the SUPPLEMENTARY INFORMATION section below. The Service announces the availability of an Environmental Assessment (EA) and Habitat Conservation Plan/Application for Incidental Take.

DATES: Written comments on the ITP application, HCP and EA should be sent to the Service's Regional Office (see ADDRESSES) and should be received on or before October 15, 2004.

ADDRESSES: Persons wishing to review the application, HCP and EA may obtain a copy by writing the Service's Southeast Regional Office, Atlanta, Georgia. Documents will also be available for public inspection by appointment during normal business hours at the Regional Office, 1875 Century Boulevard, Suite 200, Atlanta, Georgia 30345, (Attn: Endangered Species Permits), or, Ecological Services Field Office, 1208-B Main Street, Daphne, Alabama 36526. Written data or comments concerning the application or HCP should be submitted to the Regional Office. Please reference Gulf State Park Reconstruction and the permit number TE-072831-0 in requests for the documents discussed herein.

FOR FURTHER INFORMATION CONTACT: Mr. Joe Johnston, Regional Project Manager, (see ADDRESSES above), telephone: 404/679-4155; or Ms. Barbara Allen, Fish and Wildlife Biologist, Daphne Field Office (see ADDRESSES), telephone: 251/441-5873.

SUPPLEMENTARY INFORMATION: We announce the availability of an EA and HCP application for an incidental take permit. The EA is an assessment of likely environmental impacts associated with this project. Copies of these documents may be obtained by making a request, in writing, to the Regional Office (see ADDRESSES). This notice advises the public that we have opened the comment period on the permit application, which includes an HCP and the EA. This notice is provided under section 10 of the Act and NEPA regulations at 40 CFR 1506.6.

We specifically request information, views, and opinions from the public via this notice on the Federal action, including the identification of any other aspects of the human environment not already identified in the EA. Further, we specifically solicit information about the adequacy of the HCP as measured against our ITP issuance criteria found in 50 CFR parts 13 and 17.

If you wish to comment, you may submit comments by any one of several methods. Please reference Gulf State Park Reconstruction and permit number TE-072831-0 in your comments. You may mail comments to the Service's Regional Office (see ADDRESSES). You may also comment via the Internet to joe_johnston@fws.gov. Please submit comments over the Internet as an ASCII file avoiding the use of special characters and any form of encryption. Please also include your name and return address in your Internet message. If you do not receive a confirmation from us that we have received your Internet message, contact us directly at either telephone number listed (see FOR FURTHER INFORMATION).

Finally, you may hand deliver comments to either Service office listed (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comment. We will make all submissions from organizations or businesses, and from individuals identifying themselves as representatives or officials of organizations or businesses, available for public inspection in their entirety.

The ABM is one of eight subspecies of the old field mouse restricted to coastal dunes. We estimate that ABM historically occupied about 28 miles [mi] of shoreline. By 1987, the total occupied linear, shoreline habitat for the ABM, Choctawhatchee, and Perdido Key beach mice was estimated at less than 22 mi. Monitoring (trapping and field observations) of the ABM population on other private lands that hold, or are under review for, an ITP during the last five years indicates the Fort Morgan Peninsula remains occupied (more or less continuously) by ABM along its primary and secondary dunes, and interior habitats.

The ABM is known to occupy about 55.8 acres of land within the action area of the project. At this time, ABM have not been recorded on or west of the existing hotel and convention center compound. Construction and occupancy of the new park facilities may result in the incidental taking of ABM. The applicant, recognizing the potential for such an event, is seeking the issuance of an incidental take permit for the ABM from us.

The proposed project will include the demolition, removal and off-site disposal of all existing above-ground structures and paved surfaces, south of Highway 182. Items to be removed include the following:

A. About 16 acres of pavement from existing driveways and parking areas;

B. Twelve existing hotel units (cottages) and two associated maintenance buildings;

C. One abandoned tennis court; and

D. The convention center and associated pool and deck area.

Land where the hotel and convention center now stand will be used for the new hotel center or returned to its natural state. This will result in restoration of 14.7 acres of dune habitat that will adjoin verified occupied ABM habitat to the east. The applicant's restoration of these 14.7 acres provides for a net gain of 3.16 acres of habitat over that which currently exists in the action area. All of these acres would be capable of supporting the ABM.

With the implementation of the habitat enhancement measures outlined in the applicant's HCP, the quality of existing habitat will be improved. Construction activities associated with site preparation, heavy equipment operations, and site alterations within habitat occupied by ABM may impact individuals by crushing or burying them in their burrows, or by impairing essential breeding, feeding, or sheltering behaviors.

Through project planning minimization effects, impacts to ABM habitat resulting from project conservation have been limited to 11.55 acres. This impact is primarily confined to three areas: (1) 4.54 acres west of the entrance road to Gulf State Park Pier; (2) 5.88 acres located east of the same entrance road and (3) 1.13 acres located around the pavilion. At this time, although the first two areas (near the existing hotel and convention center) appear to be suitable habitat, they are not known to contain ABM nor do they adjoin any known occupied habitat. The third area, near the pavilion site, is known to support ABM. This area will be directly affected by construction of buildings and associated infrastructure.

The majority of the new building and construction efforts will remain within the footprint of the currently impacted area. There are 2.1 acres of scrub dunes, not suitable for ABM use, which will be impacted by the proposed action. However, since this acreage is not suitable for the ABM, its loss is not considered as an adverse impact to the ABM.

Construction activities associated with site preparation, heavy equipment operations, and site alterations within habitat occupied by ABM may impact ABM by crushing or burying them in their burrows, or by impairing essential breeding, feeding, or sheltering behaviors. Following construction, use of the area may also result in take of ABM due to inadequate garbage or refuse management that could attract ABM competitors or predators, and lights that may alter ABM nocturnal behavioral patterns. Boardwalks running perpendicular to the beach will act as a safeguard against pedestrian use of the dune system that may cause erosion and the loss of habitat required for ABM shelter, food, and reproduction.

The EA considers the effects of three project alternatives, including an alternative that would result in no new construction on the project site. Alternative 1 would not be economically feasible for the applicant. Alternative 2 and 3 involve the proposed development of 44.29 or 54.09 acres of a 137.8 acre action area in connection with the replacement, construction, occupancy, use, operation, and maintenance of the proposed new Gulf State Park Hotel/Convention Center, lodging facilities, and parking. The difference between these two alternatives relate to the amount of habitat restored and preserved for the ABM.

Alternative 3, the preferred alternative involves the greatest amount of habitat restoration and preservation and includes revisions designed to avoid or minimize take by reducing the impacts to habitat and enhance restoration efforts while still providing the necessary infrastructure improvements to increase use of the Park and provide an influx of about $65 million per year (increase of $52 million per year) to the local economy. The resulting alternative was chosen as the preferred alternative and would create a net gain of 3.16 acres of habitat exhibiting constituent elements of ABM CH. This alternative will allow 14.7 acres of currently degraded or developed land (which is adjoining ABM occupied habitat), to be restored to natural habitat with the potential for future ABM occupancy.

Under section 9 of the Act and its implementing regulations, “taking” of endangered and threatened wildlife is prohibited. However, we, under limited circumstances, may issue permits to take such wildlife if the taking is incidental to and not the purpose of otherwise lawful activities. The applicants have prepared a HCP which includes measures for the long-term protection, management, and enhancement of ABM habitat as required for the incidental take permit application as part of the proposed project

We will evaluate whether the issuance of the section 10(a)(1)(B) ITP complies with section 7 of the Act by conducting an intra-Service section 7 consultation. The results of the biological opinion, in combination with the above findings, will be used in the final analysis to determine whether or not to issue the ITP.

Dated: August 25, 2004.
Sam D. Hamilton,
Regional Director, Southeast Region.

[FR Doc. 04-20772 Filed 9-14-04; 8:45 am]

BILLING CODE 4310-55-P